DEPARTMENT OF HOMELAND SECURITY

Federal Emergency Management Agency

44 CFR Part 64

[Docket ID FEMA-2010-0003; Internal Agency Docket No. FEMA-8139]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region IV
Alabama:
Eutaw, City of, Greene County | 010093 | July 23, 1974, Emerg; August 19, 1985, Reg; August 5, 2010, Susp | Aug. 5, 2010 | Aug. 5, 2010
Greene County, Unincorporated Areas | 010091 | April 5, 1976, Emerg; April 16, 1990, Reg; August 5, 2010, Susp | ......*do | Do.
Georgia:
Brooklet, Town of, Bulloch County | 130020 | September 10, 1975, Emerg; July 3, 1986, Reg; August 5, 2010, Susp | ......do | Do.
Jenkins County, Unincorporated Areas | 130118 | January 16, 1976, Emerg; September 29, 1989, Reg; August 5, 2010, Susp | ......do | Do.
Statesboro, City of, Bulloch County | 130021 | January 20, 1975, Emerg; May 15, 1980, Reg; August 5, 2010, Susp | ......do | Do.
Unified Government of Georgetown, Quitman County | 130379 | October 17, 1986, Emerg; September 1, 1987, Reg; August 5, 2010, Susp | ......do | Do.
Kentucky:
Elliott County, Unincorporated Areas | 210372 | May 8, 1996, Emerg; August 5, 2010, Reg; August 5, 2010, Susp | ......do | Do.
Inez, City of, Martin County | 210362 | May 19, 1988, Emerg; May 19, 1988, Reg; August 5, 2010, Susp | ......do | Do.
Martin County, Unincorporated Areas | 210166 | April 14, 1977, Emerg; February 19, 1986, Reg; August 5, 2010, Susp | ......do | Do.
Nicholas County, Unincorporated Areas | 210181 | April 17, 1975, Emerg; September 27, 1985, Reg; August 5, 2010, Susp | ......do | Do.
Warfield, Town of, Martin County | 210364 | N/A, Emerg; September 4, 1986, Reg; August 5, 2010, Susp | ......do | Do.
Region V
Illinois:
Browning, Village of, Schuyler County | 170606 | June 12, 1974, Emerg; August 16, 1982, Reg; August 5, 2010, Susp | ......do | Do.
DuQuoin, City of, Perry County | 170539 | June 13, 1975, Emerg; July 2, 1987, Reg; August 5, 2010, Susp | ......do | Do.
Perry County, Unincorporated Areas | 170538 | September 13, 1996, Emerg; August 5, 2010, Reg; August 5, 2010, Susp | ......do | Do.
Pinckneyville, City of, Perry County | 170540 | July 2, 1975, Emerg; September 16, 1982, Reg; August 5, 2010, Susp | ......do | Do.
Region VI
Louisiana:
Arnaudville, Town of, St. Landry and St. Martin Parishes | 220166 | March 4, 1974, Emerg; November 1, 1985, Reg; August 5, 2010, Susp | ......do | Do.
Cankton, Village of, St. Landry Parish | 220167 | March 5, 1975, Emerg; June 25, 1976, Reg; August 5, 2010, Susp | ......do | Do.
Eunice, City of, Acadia and St. Landry Parishes | 220168 | June 5, 1975, Emerg; June 1, 1981, Reg; August 5, 2010, Susp | ......do | Do.
Grand Coteau, Town of, St. Landry Parish | 220169 | September 26, 1975, Emerg; June 30, 1976, Reg; August 5, 2010, Susp | ......do | Do.
Krotz Springs, Town of, St. Landry Parish | 220170 | May 30, 1973, Emerg; January 15, 1988, Reg; August 5, 2010, Susp | ......do | Do.
Leonville, Town of, St. Landry Parish | 220171 | May 28, 1975, Emerg; November 9, 1982, Reg; August 5, 2010, Susp | ......do | Do.
Melville, Town of, St. Landry Parish | 220172 | May 31, 1973, Emerg; July 3, 1978, Reg; August 5, 2010, Susp | ......do | Do.
Opelousas, City of, St. Landry Parish | 220173 | December 12, 1974, Emerg; August 3, 1981, Reg; August 5, 2010, Susp | ......do | Do.
Palmetto, Village of, St. Landry Parish | 220174 | April 12, 1974, Emerg; April 15, 1986, Reg; August 5, 2010, Susp | ......do | Do.
Port Barre, Town of, St. Landry Parish | 220175 | February 28, 1974, Emerg; April 15, 1981, Reg; August 5, 2010, Susp | ......do | Do.
St. Landry Parish, Unincorporated Areas | 220165 | May 15, 1973, Emerg; May 3, 1982, Reg; August 5, 2010, Susp | ......do | Do.
Sunset, Town of, St. Landry Parish | 220176 | April 24, 1975, Emerg; March 30, 1982, Reg; August 5, 2010, Susp | ......do | Do.
Washington, Town of, St. Landry Parish | 220177 | May 1, 1975, Emerg; May 1, 1985, Reg; August 5, 2010, Susp | ......do | Do.
New Mexico:
Aztec, City of, San Juan County | 350065 | May 9, 1974, Emerg; July 15, 1988, Reg; August 5, 2010, Susp | ......do | Do.
Bloomfield, City of, San Juan County | 350066 | June 19, 1975, Emerg; August 8, 1978, Reg; August 5, 2010, Susp | ......do | Do.
Clovis, City of, Curry County | 350010 | May 1, 1974, Emerg; February 4, 1981, Reg; August 5, 2010, Susp | ......do | Do.
Curry County, Unincorporated Areas | 350127 | February 11, 2005, Emerg; August 5, 2010, Reg; August 5, 2010, Susp | ......do | Do.
Farmington, City of, San Juan County | 350067 | August 30, 1974, Emerg; September 29, 1978, Reg; August 5, 2010, Susp | ......do | Do.
Oklahoma:
Afton, Town of, Ottawa County | 400155 | March 30, 1976, Emerg; January 3, 1986, Reg; August 5, 2010, Susp | ......do | Do.
Commerce, City of, Ottawa County | 400156 | February 7, 1983, Emerg; July 18, 1985, Reg; August 5, 2010, Susp | ......do | Do.
Delaware County, Unincorporated Areas | 400502 | August 2, 1988, Emerg; March 1, 1990, Reg; August 5, 2010, Susp | ......do | Do.
Fairland, Town of, Ottawa County | 400377 | June 29, 1990, Emerg; January 1, 1992, Reg; August 5, 2010, Susp | ......do | Do.
Grove, City of, Delaware County | 400385 | April 12, 1976, Emerg; February 18, 1981, Reg; August 5, 2010, Susp | ......do | Do.
Jay, Town of, Delaware County | 400057 | August 5, 1976, Emerg; July 5, 1978, Reg; August 5, 2010, Susp | ......do | Do.
Miami, City of, Ottawa County | 400157 | November 29, 1974, Emerg; December 16, 1980, Reg; August 5, 2010, Susp | ......do | Do.
Ottawa County, Unincorporated Areas | 400154 | November 19, 1980, Emerg; December 2, 1988, Reg; August 5, 2010, Susp | ......do | Do.
Picher, City of, Ottawa County | 400159 | May 25, 1976, Emerg; September 21, 1982, Reg; August 5, 2010, Susp | ......do | Do.
Wyandotte, Town of, Ottawa County | 400161 | July 12, 1976, Emerg; December 17, 1987, Reg; August 5, 2010, Susp | ......do | Do.
Region VII
Kansas:
Baldwin City, City of, Douglas County | 200088 | June 23, 1975, Emerg; January 2, 1980, Reg; August 5, 2010, Susp | ......do | Do.
Douglas County, Unincorporated Areas | 200087 | May 30, 1975, Emerg; March 2, 1981, Reg; August 5, 2010, Susp | ......do | Do.
Region VIII
South Dakota:
Clay County, Unincorporated Areas | 460259 | May 16, 1986, Emerg; April 1, 1987, Reg; August 5, 2010, Susp | ......do | Do.
Vermillion, City of, Clay County | 460015 | June 24, 1975, Emerg; January 30, 1984, Reg; August 5, 2010, Susp | ......do | Do.
Wyoming:
Jackson, Town of, Teton County | 560052 | August 8, 1975, Emerg; May 4, 1989, Reg; August 5, 2010, Susp | ......do | Do.
Teton County, Unincorporated Areas | 560094 | April 19, 1978, Emerg; May 4, 1989, Reg; August 5, 2010, Susp | ......do | Do.
Region IX
Nevada:
Caliente, City of, Lincoln County | 320015 | August 22, 1975, Emerg; June 1, 1982, Reg; August 5, 2010, Susp | ......do | Do.
Lincoln County, Unincorporated Areas | 320014 | December 12, 1983, Emerg; March 1, 1984, Reg; August 5, 2010, Susp | ......do | Do.
*do =Ditto.
Code for reading third column: Emerg—Emergency; Reg—Regular; Susp—Suspension.

Dated: July 15, 2010.
Sandra K. Knight,
Deputy Federal Insurance and Mitigation Administrator, Mitigation.

[FR Doc. 2010-18449 Filed 7-27-10; 8:45 am]

BILLING CODE 9110-12-P